DEPARTMENT OF COMMERCE

International Trade Administration

Opportunity for U.S. Companies To Submit Smart City Products, Services, and Capabilities for Showcasing as Export Listings in the Upcoming Smart Cities, Regions and Communities: Global Tools of Engagement

AGENCY: U.S. Department of Commerce, International Trade Administration.

ACTION: Notice of Opportunity for Listing.

SUMMARY: Located within the U.S. Department of Commerce International Trade Administration, Global Markets (GM) promotes trade and investment. GM works to improve the global business environment and helps U.S. organizations compete abroad. In furtherance of GM's mission and the U.S. Department of Commerce's strategic goal of increasing trade and investment opportunities for U.S. companies globally, GM is offering a new for-fee service for U.S. exporters to be listed in an Export Listing Guide as part of a larger Smart Cities Resource Guide inventorying the various initiatives and programming related to Smart Cities within the U.S. Department of Commerce. The Export Listing Guide aims to showcase U.S. goods and services in the various sectors comprising Smart City urban development globally. For the purposes of the Export Listing Guide, `Smart City' is a broad urban development term generally referring to urban planning and infrastructure development focused around the integration of multiple information and communications technology (ICT) solutions to better manage a city's municipal operations; and to provide real time citizen feedback for enhanced city governance. General domains of Smart City products and services can be categorized as: Energy & power; water & sanitation; information and communications technology; transportation; healthcare; design & planning; infrastructure financing; environmental protection/safety; and/or governance solutions. Please see SUPPLEMENTARY INFORMATION for additional detail regarding submission requirements.

DATES: Submissions and payment must be received no later than 5:00 p.m. EDT on May 25, 2016 for publication in the 2016 edition. Please reference the `Submissions Instructions' section for submission guidance.

ADDRESSES: Please submit showcase pages by email to Rachael Croft, International Trade Specialist, Global Markets, at Rachael.Croft@trade.gov and Vinay Singh, Senior Advisor, Global Markets, at Vinay.Singh@trade.gov.

FOR FURTHER INFORMATION CONTACT: Rachael Croft, International Trade Specialist, Global Markets, U.S. Department of Commerce, Telephone: 202-482-3048 or Email: Rachael.Croft@trade.gov or Vinay Vijay Singh, Senior Advisor, Global Markets, U.S. Department of Commerce, Telephone: 202-482-7948 or Email: vinay.singh@trade.gov.

SUPPLEMENTARY INFORMATION: U.S. industry is competitive across various infrastructure and technology sectors that contribute to global Smart City, Regional and Community development. The goal of the Export Listing Guide is to promote U.S. goods and services that can be exported to global cities as they urbanize within a broader U.S. Department of Commerce smart city resource guide.

The U.S. Department of Commerce will publish this smart city resource guide for distribution at relevant trade fairs and exhibitions globally. The U.S. Department of Commerce will also host a digital version of the Export Listing Guide.

Criteria To Be Eligible for Listing

(1) A U.S. Company must meet the eligibility requirements for Global Markets/U.S. & Foreign Commercial Service for-fee export assistance services, which requires that a company be a U.S. exporter that exports or seeks to export goods or services produced in the United States. To qualify as a U.S. exporter, the submitter must be: (a) A United States citizen; (b) a corporation, partnership or other association created under the laws of the United States or of any State; or (c) a foreign corporation, partnership, or other association, more than 95 percent of which is owned by persons described in (a) and (b) above. To qualify as a good or service produced in the United States, the good or service must be either of United States origin or have at least 51% U.S. content if not of United States origin.

(2) A U.S. Company submission should showcase currently available U.S. goods and services exportable and applicable to Smart City urban planning and infrastructure development with export potential in the following sectors: Energy & power; water & sanitation; information and communications technology; transportation; healthcare; design & planning; infrastructure financing; environmental protection/safety; and/or governance solutions. Preference may be given to submissions focused on priority global market needs in the (1) energy & power; (2) water and sanitation; and (3) transportation smart sectors leveraging state of the art technologies.

(3) Provision of adequate information on the company's products and/or services.

In addition to the above criteria, in making selection decisions, GM will consider the diversity of the submissions to arrive at an Export Listing Guide that will (a) represent the diversity of business sectors applicable to smart cities, as well as a cross-section of small, medium, and large-sized firms; (b) represent multiple technologies, products, and services within each sector; and (c) include new exporters in addition to companies with technologies, products, and services already implemented in foreign markets.

COST: The cost of a showcase 8.5 x 11 inch page for a large firm, defined as a U.S. firm with more than 500 employees, is $795 per single side page. The cost of a showcase 8.5 x 11 inch page for a small or medium-sized business, defined as a U.S. company with fewer than 500 employees, is $395 per single side page. Large and small U.S. firms can submit a minimum of one single sided page and maximum two single sided pages of content priced respectively at $795 and $395 per page. These fees will cover the expenses of designing, printing and distributing the Export Listing Guide.

SUBMISSION INSTRUCTIONS: All interested firms should (1) first register using this link: https://emenuapps.ita.doc.gov/ePublic/newRegistration.jsp?SmartCode=6S4B; (2) After registering, a representative from Global Markets will contact you with a Participation Agreement that will need to be signed and returned to us by email. The Participation Agreement can be emailed to Rachael.Croft@trade.gov; and Vinay.Singh@trade.gov; (3) Please submit your showcase page(s) by email to Rachael.Croft@trade.gov; and Vinay.Singh@trade.gov; (4) Lastly, a representative from Global Markets will contact you to complete payment over the phone.

U.S. companies must follow the instructions outlined below to format their submissions.

The address and deadline for submissions are as stated above in this notice. Showcase pages must be submitted by email to ensure timely receipt and acceptance. Payment must also be received by the May 25, 2016 5:00PM EDT for inclusion of your submission. The fee will be refunded to companies whose submissions are not selected for inclusion in the Guide.

Instructions:

Regarding format, please email submissions as a completed showcase 8.5 x 11 inch page in a Microsoft Word document. For images and/or graphics used, including logos please use a minimum resolution quality of 300 DPI (dots per inch). All images and logos used should be included in the Microsoft Word document, they should NOT be sent as a separate attachment. Please note that listings will contain only factual information. The following information must be included within the showcase page: (1) Name of U.S. company, Web site, and contact information; (2) Brief factual description of the company; and (3) Factual information on the U.S. products and services the U.S. company wishes to highlight for export to global `Smart Cities'.

The final publication and order will be at the discretion of Global Markets, U.S. Department of Commerce. The Export Listing Guide and future Web site will note that its contents and links do not constitute an official endorsement or approval by the U.S. Department of Commerce or the U.S. Government of any of the companies, Web sites, products, and/or services listed.

Dated: April 20, 2016.
Arun Kumar,
Assistant Secretary of Commerce for Global Markets & Director General of the U.S. and Foreign Commercial Service.

[FR Doc. 2016-09883 Filed 4-27-16; 8:45 am]

BILLING CODE P